SECURITIES AND EXCHANGE COMMISSION

Sunshine Act Meeting

FEDERAL REGISTER CITATION OF PREVIOUS ANNOUNCEMENT: [71 FR 10085, February 28, 2006].

STATUS: Closed Meeting.

PLACE: 100 F Street, NE., Washington, DC.

DATE AND TIME OF PREVIOUSLY ANNOUNCED MEETING: Thursday, March 2, 2006 at 2 p.m.

Change in the Meeting: Additional Item.

The following item has been added to the 2 p.m. Closed Meeting scheduled for Thursday, March 2, 2006: a matter involving investigative techniques and procedures.

The Commission voted to consider the item listed for the closed meeting in closed session and determined that no earlier notice thereof was possible.

At times, changes in Commission priorities require alterations in the scheduling of meeting items. For further information and to ascertain what, if any, matters have been added, deleted or postponed, please contact the Office of the Secretary at (202) 551-5400.

Dated: March 1, 2006.
Nancy M. Morris,
Secretary.

[FR Doc. 06-2122 Filed 3-2-06; 11:16 am]

BILLING CODE 8010-01-P